DEPARTMENT OF ENERGY

Notice of Availability of the Draft Environmental Assessment for the Proposed Infrastructure Improvements for the Yucca Mountain Project, Nevada

AGENCY: U.S. Department of Energy.

ACTION: Notice of Availability.

SUMMARY: This notice announces the availability, and the opportunity for public review and comment, of a draft environmental assessment (EA) (DOE/EA-1566) that examines the impacts of a proposal by the Department of Energy (DOE) to repair, replace, or improve certain facilities, structures, roads, and utilities (collectively referred to as infrastructure) for the Yucca Mountain Project. The proposed action would enhance safety at the project and enable DOE to safely continue ongoing operations, scientific testing, and maintenance until such time as the Nuclear Regulatory Commission decides whether to authorize construction of a repository.

DATES: Comments should be submitted to DOE no later than August 7, 2006. DOE will consider comments submitted after this date to the extent practicable.

ADDRESSES: Comments, or requests for copies of the draft EA, should be sent to Dr. Jane Summerson, EA Document Manager, United States Department of Energy, 1551 Hillshire Drive, Las Vegas, NV 89134. Requests for copies of the draft EA may also be made by calling 1-800-225-6972. The draft EA and electronic comment forms are available at http://www.ocrwm.doe.gov. Comments may also be faxed to 1-800-967-0739.

FOR FURTHER INFORMATION CONTACT: Dr. Jane Summerson, EA Document Manager, at the above address or at 1-800-225-6972.

SUPPLEMENTARY INFORMATION: The proposed action is to repair, replace, or improve certain infrastructure at Yucca Mountain over a two-year period to enhance safety at the project and to enable DOE to continue safely conducting operations, scientific testing, and routine maintenance until such time as the Nuclear Regulatory Commission (NRC) decides whether to authorize construction of a repository. For purposes of analysis in this EA, DOE assumes this period could be up to 10 years in duration. This EA does not, however, consider or include any actions beyond an NRC decision on construction authorization. The main elements of the proposed action are as follows:

• Construct up to 33 miles of new and replacement roads (with two options for an access road)

• Construct up to 20.6 miles of new 138 kV power lines (with two options for a main power line)

• Develop a Central Operations Area consisting of six support buildings to replace existing infrastructure that is nearing or, in some instances, has exceeded its expected design and operational life

• Site, repair, and construct other facilities and structures for the Yucca Mountain Project

Under both the proposed action and the no-action alternative, ongoing operations, scientific testing, and routine maintenance would continue to be considered.

Some portions of the roads evaluated in this EA cross or run parallel to floodplains. Therefore, this EA includes a floodplain and wetlands assessment in compliance with DOE Floodplain and Wetland Environmental Review Requirements (10 CFR Part 1022).

DOE will consider comments received (see DATES and ADDRESSES, above) in finalizing the EA. Based on the final EA, DOE will determine whether to prepare an environmental impact statement or issue a finding of no significant impact if appropriate for the proposed action.

Issued in Washington, DC, on June 29, 2006.
Edward F. Sproat, III,
Director, Office of Civilian Radioactive Waste Management.

[FR Doc. E6-10563 Filed 7-5-06; 8:45 am]

BILLING CODE 6450-01-P